DEPARTMENT OF HEALTH AND HUMAN SERVICES

Substance Abuse and Mental Health Services Administration

Fiscal Year (FY) 2003 Funding Opportunity

AGENCY: Substance Abuse and Mental Health Services Administration, HHS.

ACTION: Notice of funding availability for SAMHSA Dissertation Grants: Support for Analyses in Substance Abuse.

SUMMARY: The Substance Abuse and Mental Health Services Administration (SAMHSA), Office of Applied Studies, announces the availability of FY 2003 funds for the grant program described below. A synopsis of this funding opportunity, as well as many other Federal government funding opportunities, is also available at the Internet site: www.fedgrants.gov.

This notice is not a complete description of the program; potential applicants must obtain a copy of the Request for Applications (RFA), including Dissertation Grants OA-03-003 Programmatic Guidance, and PHS 398 Instructions, Face Page (Form Page 1), Description, Performance Sites, and Key Personnel (Form Page 2), Research Grant Table of Contents (Form Page 3), Checklist, Personal Data form pages and the Modular Budget, Biographical Sketch, and Resources format pages before preparing and submitting an application.

Funding Opportunity Title: SAMHSA Dissertation Grants: Support for Analyses in Substance Abuse—Short Title: Dissertation Grants.

Funding Opportunity Number: OA-03-003.

Catalog of Federal Domestic Assistance (CFDA) Number: 93.243.

Authority: Title V section 501(d) (8) of the Public Health Service Act, as amended and subject to the availability of funds.

Funding Instrument: G.

Funding Opportunity Description: The Substance Abuse and Mental Health Services Administration (SAMHSA), Office of Applied Studies, is accepting applications for Fiscal Year 2003 to support dissertation research involving data analysis on substance abuse service issues. The purpose of the program is to expand the number of researchers who conduct high-quality substance abuse services research, the study of how various factors (social, financial, organizational, and personal) affect the need for and access to substance abuse treatment, the quality and cost of substance abuse treatment and, ultimately, health and well being.

Eligible Applicants: Students registered and in good standing at an accredited academic doctoral degree program (e.g., Ph.D., Sc.D., or Dr.P.H.), which requires a dissertation based on original research, may apply. The student must apply through a public or private nonprofit institution that will administer the grant on his or her behalf. Students in such fields as sociology, psychology, biostatistics, epidemiology, economics, policy, management, medicine, nursing, public health or health services research are especially encouraged to apply.

Due Date for Applications: July 2, 2003.

Estimated Funding Available/Number of Awards: It is expected that approximately $150,000 will be available for 5 grant (R03) awards in FY 2003. The average annual award will range from $20,000 to $30,000 in total costs (direct and indirect). Actual funding levels will depend on the availability of funds. The amount of funds available will depend on the appropriation. Applications with proposed budgets that exceed total costs of $30,000 per year will be returned without review.

Is Cost Sharing Required: No.

Period of Support: Awards may be requested for a period not to exceed 2 years. The second year of the award will depend on the availability of funds and progress achieved.

How to Get Full Announcement and Application Materials: Complete application kits may be obtained from: Jane Feldman, (301) 443-5628, jfeldman@samhsa.gov. The PHS 398 application form and the full text of the funding announcement are also available electronically via SAMHSA's World Wide Web home page: http://www.samhsa.gov (click on “Grant Opportunities”).

When requesting an application kit, the applicant must specify the funding opportunity title and number for which detailed information is desired. All information necessary to apply, including where to submit applications and application deadline instructions, are included in the application kit.

Contact for Additional Information: Sarah Q. Duffy, Ph.D., Office of Applied Studies, Substance Abuse and Mental Health Services Administration, 5600 Fishers Lane, Room 16-105 Rockville, MD 20857, (301) 443-8565, E-Mail: Sduffy@samhsa.gov.

Dated: April 17, 2003.
Richard Kopanda,
Executive Officer, Substance Abuse and Mental Health Services Administration.

[FR Doc. 03-10076 Filed 4-23-03; 8:45 am]

BILLING CODE 4162-20-P